DEPARTMENT OF TRANSPORTATION

Federal Aviation Administration

[Policy No. PS-ANE33-ACE23-2006-1]

Policy Statement on Approval for 10-Minute Rated Takeoff Thrust/Power During Takeoff With One-Engine Inoperative (OEI) Under 14 CFR Part 23 and 14 CFR Part 33

AGENCY: Federal Aviation Administration, DOT.

ACTION: Notice of issuance; policy statement.

SUMMARY: The Federal Aviation Administration (FAA) announces the availability of policy for the approval for 10-minuted rated takeoff thrust/power during takeoff with one-engine inoperative (OEI) under 14 CFR parts 23 and 33.

DATES: The FAA issued policy statement number PS-ANE33-ACE23-2006-1 on August 30, 2006.

FOR FURTHER INFORMATION CONTACT: Dorina Mihail, FAA, Engine and Propeller Standards Staff, ANE-11, 12 New England Executive Park, Burlington, MA 01803; e-mail: dorina.mihail@faa.gov; telephone: (781) 238-7153; fax: (781) 238-7199. The policy statement is available on the Internet at the following address: http://www.faa.gov. (click on the “Regulations and Policies” tab, then “Regulatory and Guidance Library”). If you do not have access to the Internet, you may request a copy of the policy by contacting the individual listed in this section.

SUPPLEMENTARY INFORMATION: The FAA published the policy at http://www.faa.gov/aircraft/draft_docs/ on May 23, 2006 to announce the availability of the proposed policy and invite interested parties to comment.

We have filed in the docket all comments we received, as well as a report summarizing each substantive public contact with FAA personnel concerning this policy. The docket is available for public inspection. If you wish to review the docket in person, go to the above address between 9 a.m. and 5 p.m., Monday through Friday, except Federal holidays.

Background

This FAA policy statement presents one method to obtain approval to operate an aircraft engine at the rated thrust or power for up to 10 minutes during aircraft takeoff when one engine becomes inoperative. This policy is applicable to an aircraft certificated under 14 CFR part 23 powered by turbojet or turboprop engines certificated under 14 CFR part 33. The Engine and Propeller Directorate and the Small Airplane directorate jointly issued this policy statement.

(Authority: 49 U.S.C. 106(g), 40113, 44701-44702, 44704.)

Issued in Burlington, Massachusetts, on September 5, 2006.
Francis A. Favara,
Manager, Engine and Propeller Directorate, Aircraft Certification Service.

[FR Doc. 06-7575 Filed 9-8-06; 8:45 am]

BILLING CODE 4910-13-M